DEPARTMENT OF STATE

[Public Notice 4470]

Culturally Significant Objects Imported for Exhibition Determinations: “JFK and Art”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, and Delegation of Authority No. 257 of April 15, 2003 [68 FR 19875], I hereby determine that the object to be included in the exhibition “JFK and Art,” imported from abroad for temporary exhibition within the United States, is of cultural significance. The object is imported pursuant to a loan agreement with the foreign owner. I also determine that the exhibition or display of the exhibit object at the Bruce Museum of Arts and Science, Greenwich, CT from on or about September 20, 2003 to on or about January 7, 2004 and the Norton Museum of Art, West Palm Beach, FL from on or about February 7, 2004 to on or about May 2, 2004, and at possible additional venues yet to be determined, is in the national interest. Public Notice of these Determinations is ordered to be published in the Federal Register.

FOR FURTHER INFORMATION CONTACT: For further information, including a list of the exhibit object, contact Carol B. Epstein, Attorney-Adviser, Office of the Legal Adviser, Department of State, (telephone: (202) 619-6981). The address is Department of State, SA-44, 301 4th Street, S.W., Room 700, Washington, DC 20547-0001.

Dated: August 26, 2003.
C. Miller Crouch,
Principal Deputy Assistant Secretary for Educational and Cultural Affairs, Department of State.

[FR Doc. 03-22637 Filed 9-4-03; 8:45 am]

BILLING CODE 4710-08-P